DEPARTMENT OF THE TREASURY

Office of Foreign Assets Control

Notice of OFAC Sanctions Action

AGENCY: Office of Foreign Assets Control, Treasury.

ACTION: Notice.

SUMMARY: The U.S. Department of the Treasury's Office of Foreign Assets Control (OFAC) is publishing the names of one or more persons that have been placed on OFAC's Specially Designated Nationals and Blocked Persons List based on OFAC's determination that one or more applicable legal criteria were satisfied. All property and interests in property subject to U.S. jurisdiction of these persons are blocked, and U.S. persons are generally prohibited from engaging in transactions with them.

DATES: See SUPPLEMENTARY INFORMATION section for applicable date(s).

FOR FURTHER INFORMATION CONTACT: OFAC: Associate Director for Global Targeting, tel.: 202-622-2420; Assistant Director for Licensing, tel.: 202-622-2480; or Assistant Director for Regulatory Affairs, tel.: 202-622-4855; or the Assistant Director for Sanctions Compliance & Evaluation, tel.: 202-622-2490.

SUPPLEMENTARY INFORMATION:

Electronic Availability

The Specially Designated Nationals and Blocked Persons List and additional information concerning OFAC sanctions programs are available on OFAC's website (www.treasury.gov/ofac).

Notice of OFAC Actions

On March 22, 2021, OFAC determined that the property and interests in property subject to U.S. jurisdiction of the following persons are blocked under the relevant sanctions authority listed below.

Individuals

1. HLAING, Than, Burma; DOB 1965; Gender Male; Deputy Minister for Home Affairs and Chief of Burma Police Force (individual) [BURMA-EO14014].

Designated pursuant to section 1(a)(iii)(C) of Executive Order of February 10, 2021, “Blocking Property With Respect To The Situation In Burma” (“E.O. 14014”) for being a foreign person determined to be or has been a leader of the Burma Police Force, an entity that has, or whose members have, engaged in actions or policies that prohibit, limit or penalize the exercise of freedom of expression or assembly by people in Burma.

2. SOE, Aung, Naypyitaw, Burma; DOB 03 Dec 1963; POB Pa Thein Town, Burma; nationality Burma; Gender Male (individual) [BURMA-EO14014].

Designated pursuant to section 1(a)(iii)(A) of E.O. 14014 for being a foreign person who is or has been a leader or official of the military or security forces of Burma, or any successor entity to any of the foregoing.

Entities

1. 33RD LIGHT INFANTRY DIVISION OF THE BURMESE ARMY, Sagaing, Burma [BURMA-EO14014].

Designated pursuant to section 1(a)(ii)(C) of E.O. 14014 for being responsible for or complicit in, or having directly or indirectly engaged or attempted to engage in, actions or policies that prohibit, limit, or penalize the exercise of freedom of expression or assembly by people in Burma.

2. 77TH LIGHT INFANTRY DIVISION OF THE BURMESE ARMY, Pegu, Burma [BURMA-EO14014].

Designated pursuant to section 1(a)(ii)(C) of E.O. 14014 for being responsible for or complicit in, or having directly or indirectly engaged or attempted to engage in, actions or policies that prohibit, limit, or penalize the exercise of freedom of expression or assembly by people in Burma.

Dated: March 22, 2021.
Bradley T. Smith,
Acting Director, Office of Foreign Assets Control, U.S. Department of the Treasury.

[FR Doc. 2021-06150 Filed 3-24-21; 8:45 am]

BILLING CODE 4810-AL-P